FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 017370NF.

Name: Antilles Wholesale Company.

Address: 7201 NW. 35th Avenue, Miami, FL 33147.

Date Revoked: January 26, 2005.

Reason: Failed to maintain valid bonds.

License Number: 018385N.

Name: California Freight System, Inc.

Address: 601 W Carob Street, Compton, CA 90220.

Date Revoked: January 28, 2005.

Reason: Failed to maintain a valid bond.

License Number: 004666NF.

Name: Magnum Freight Corporation.

Address: 6701 NW. 7th Street, Suite 165, Miami, FL 33126.

Date Revoked: January 17, 2005.

Reason: Failed to maintain valid bonds.

License Number: 017770NF.

Name: Moog International, Inc.

Address: 1223 Grove Road, Pittsburgh, PA 15234.

Date Revoked: February 2, 2005.

Reason: Failed to maintain valid bonds.

License Number: 001636F.

Name: Packers Enterprises, Inc. dba Packers, Ltd.

Address: 100 Broad Avenue, Wilmington, CA 90744.

Date Revoked: February 5, 2005.

Reason: Failed to maintain a valid bond.

License Number: 004233NF.

Name: Rodi International Corp.

Address: 7022 NW. 50th Street, Miami, FL 33166.

Date Revoked: January 26, 2005.

Reason: Failed to maintain valid bonds.

License Number: 004635NF.

Name: World Shipping America Inc.

Address: 333 Sylvan Avenue, Suite 209, Englewood Cliffs, NJ 07632.

Date Revoked: January 19, 2005.

Reason: Failed to maintain valid bonds.

Sandra L. Kusumoto,
Director, Bureau of Certification and Licensing.

[FR Doc. 05-3689 Filed 2-24-05; 8:45 am]

BILLING CODE 6730-01-P